DEPARTMENT OF LABOR

Agency Information Collection Activities; Submission for OMB Review; Comment Request; Jobs for Veterans State Grants Reports

AGENCY: Veterans' Employment and Training Service (VETS), Department of Labor.

ACTION: Notice of information collection; request for comments.

SUMMARY: The Department of Labor (DOL), as part of its continuing effort to reduce paperwork and respondent burden, provides the general public and federal agencies with an opportunity to comment on proposed and/or continuing collections of information in accordance with the Paperwork Reduction Act of 1995 (PRA). This program helps to ensure that requested data can be provided in the desired format, reporting burden (time and financial resources) is minimized, collection instruments are clearly understood, and the impact of collection requirements on respondents is properly assessed. Currently, the DOL is soliciting comments concerning the collection of recurring reports submitted by Jobs for Veterans State Grants (JVSG) recipients regarding the planned and actual expenditure of grant funds and activities funded by the grant.

DATES: Written comments must be submitted to the office listed in the ADDRESSES section below on or before January 13, 2025.

ADDRESSES: You may submit comments by email at JVSG@dol.gov. Instructions: Please submit only one copy of your comments. All submissions received must include the agency name and Office of Management and Budget (OMB) Control Number 1293-0009 for this information collection. Comments, including any personal information provided, become a matter of public record. They will also be summarized and/or included in the request for OMB approval of the information collection request. A copy of the proposed Information Collection Request (ICR) can be obtained by contacting the office as listed.

FOR FURTHER INFORMATION CONTACT: Rebekah Haydin, by telephone at (240) 867-2302 (this is not a toll-free number) or by email at JVSG@dol.gov.

SUPPLEMENTARY INFORMATION: The Department of Labor, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Department of Labor's Veterans' Employment and Training Service (VETS) administers funds for the Jobs for Veterans State Grant (JVSG) to each state, the District of Columbia, Guam, Puerto Rico, and the U.S. Virgin Islands on an annual fiscal year basis. These non-competitive, formula-driven grants are codified under title 38, United States Code, (38 U.S.C.) section 4102A(b)(5): “Subject to subsection (c) make available for use in each state by grant or contract such funds as may be necessary to support—(A) disabled veterans' outreach program specialists appointed under section 4103A(a)(1) of this title, (B) local veterans' employment representatives assigned under section 4104(b) of this title, and (C) the reasonable expenses of such specialists and representatives described in subparagraphs (A) and (B), respectively, for training, travel, supplies, and other business expenses . . .”

VETS provides funds to states in accordance with an allocation formula required by 38 U.S.C. 4102A(c)(2)(B) and as published in regulation at title 20, part 1001, subpart F of the Code of Federal Regulations (CFR). The Assistant Secretary for Veterans' Employment and Training monitors and supervises the distribution and use of those funds as required by 38 U.S.C. 4102A(b)(6). Additionally, and in accordance with 38 U.S.C. 4107(b), the Secretary reviews performance and provides an annual report to Congress that includes a characterization of the quality and character of priority of services provided to veterans (38 U.S.C. 4215 and 20 CFR 1010.320, 1010.330), efforts to coordinate with the U.S. Department of Veterans Affairs in accordance with 38 U.S.C. 4102A(b)(3) and 4109; and incentive fund usage as described in 38 U.S.C. 4112.

VETS is requesting continued approval for the information collection that streamlines the annual funding request process for grantees, reports the use of grantee funds in sufficient detail to allow interim adjustments that ensure all appropriated funding is expended properly, and provides data needed for VETS' Annual Report to Congress.

The forms and reports collect required programmatic and financial data from states and territories requesting and obligating grant funds. The continued use of standardized formats for collecting this information helps to ensure that requested data is provided in a uniform way, reporting burdens are minimized, the impact of collection requirements on respondents are properly assessed, collection instruments are clearly understood by respondents, and the information is easily consolidated for posting in accordance with statutory requirements.

In addition to its standard review of all forms and instructions to incorporate programmatic updates and improve plain language, VETS is proposing to revise the information collection to add a VETS-404 Incentive Award Report form for reporting on the recipient's incentive award program. As a condition for the receipt of funds, JVSG recipients must establish and carry out an annual performance incentive program to recognize excellence and encourage the improvement of employment, training, and placement services provided under the grant. Recipients currently provide an annual report on their incentive program as a freeform attachment to their fourth-quarter VETS-403 Technical Performance Narrative. Recipients have requested a standardized form on which to complete this report so that the required data elements are more clear.

With respect to the continuation of the approved collection of information, VETS is particularly interested in comments on these topics:

(1) Whether the continued collection of information is necessary for the proper performance and oversight of the Jobs for Veterans State Grant, including whether the information will have practical utility;

(2) The accuracy of the VETS' estimate of the burden of the proposed collection of information;

(3) Ways to enhance the quality, utility, and clarity of the information to be collected; and

(4) Ways to minimize the burden of the collection of information on respondents, including through the use of automated collection techniques, when appropriate, and other forms of information technology.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-VETS.

Type of Review: Revision.

OMB Control Number: 1293-0009.

Title of Collection: VETS' Jobs for Veterans State Grant Program Reporting.

Forms:

1. VETS-401, JVSG Budget Information Summary;

2. VETS-402, JVSG Expenditure Detail Report (EDR);

3. VETS-403, JVSG Technical Performance Narrative (TPN);

4. VETS-404, Incentive Award Report (IAR);

5. VETS-501, JVSG Staffing Directory.

Affected Public: State, Local, and Tribal Governments.

Estimated Number of Respondents: 54.

Frequency: On occasion.

Total Estimated Annual Responses: 3,456.

Estimated Total Annual Burden Hours: 6,116.

Authority: 44 U.S.C. 3506(c)(2)(A).

Dated: November 6, 2024.
James Rodriguez,
Assistant Secretary, Veterans' Employment and Training Service.

[FR Doc. 2024-26438 Filed 11-13-24; 8:45 am]

BILLING CODE 4510-79-P